DEPARTMENT OF DEFENSE

Defense Acquisition Regulations System

Weapon Systems Acquisition Reform Act Organizational Conflicts of Interest Requirements

AGENCY: Defense Acquisition Regulations System, Department of Defense (DoD).

ACTION: Notice of meeting.

SUMMARY: DoD is hosting a public meeting to establish an initial dialogue with industry and Government agencies about the requirements of section 207 of the Weapon Systems Acquisition Reform Act of 2009 (WSARA) relating to organizational conflicts of interest (OCI).

Time and Date: December 8, 2009, 1 p.m. to 4 p.m., EST

ADDRESSES: GSA Auditorium, 1800 F Street, NW., Washington, DC.

FOR FURTHER INFORMATION CONTACT: Sandra K. Ross, CPIC/DPAP, at 703-695-9774. Please cite WSARA OCI Public Meeting.

SUPPLEMENTARY INFORMATION: DoD is interested in opening a dialogue with industry and Government agencies about the requirements of section 207 of the Weapon Systems Acquisition Reform Act of 2009 (Pub. L. 111-23) relating to organizational conflicts of interest. The public meeting contemplated by this notice will include dialogue on the possible impact on DoD contracting of the WSARA requirements relating to organizational conflicts of interest. Suggested areas for comments and presentations by attendees on section 207 are—

1. Organizational conflicts of interest related to lead system integrator contractors on major defense acquisition programs and follow-on contracts for production;

2. Ownership of business units performing systems engineering and technical assistance functions, professional services, or management support services of major defense acquisition programs in relation to the business units that compete to perform as supplier for such programs; and

3. Award of major subsystem contracts by the prime contractor for a major defense acquisition program to affiliated business units for—

a. Software integration or development of proprietary software system architecture; or

b. Providing technical evaluations on major defense acquisition programs.

Those planning to attend must FAX the following information to CPIC/DPAP, 703-614-1254, or e-mail to Sandra.Ross@osd.mil by December 3, 2009:

• Company or Organization Name.

• Names of persons attending.

• Identify if desiring to speak; limit to a 10-minute presentation per company or organization.

• Last four digits of the social security number for anyone who is not a Federal Government employee with a Government badge, in order to create an attendee list for secure entry to the GSA building.

Interested parties are encouraged to arrive at least 30 minutes early to accommodate security procedures.

If you wish to make a presentation, please contact and submit a copy of your presentation 5 days prior to the meeting date, to CPIC/DPAP, 3060 Pentagon, Room 5E621, Attn: Sandra Ross, Washington, DC 20301-3060. Telephone: 703-695-9774. Submit electronic materials via e-mail to Sandra.Ross@osd.mil. Please submit presentations only and cite WSARA OCI Public Meeting in all correspondence related to the public meeting. The submitted presentations will be the only record of the public meeting.

Special Accommodations: The public meeting is physically accessible to people with disabilities. Request for sign language interpretation or other auxiliary aids should be directed to Sandra Ross at 703-695-9774, at least 5 working days prior to the meeting date.

Amy G. Williams,
Editor, Defense Acquisition Regulations System.

[FR Doc. E9-26964 Filed 11-6-09; 8:45 am]

BILLING CODE 5001-08-P